DEPARTMENT OF TRANSPORTATION

Federal Aviation Administration

Notice of Intent To Rule on Request To Release Airport Property at Pocahontas Municipal Airport, Pocahontas, AR

AGENCY: Federal Aviation Administration (FAA), DOT.

ACTION: Notice of request to release airport property.

SUMMARY: The FAA proposes to rule and invites public comment on the release of land at Pocahontas Municipal Airport under the provisions of Title 49, U.S.C. 47153(c).

DATES: Comments must be received on or before July 27, 2009.

ADDRESSES: Comments on this application may be mailed or delivered to the FAA at the following address: Mr. Edward N. Agnew, Manager, Federal Aviation Administration, Southwest Region, Airports Division, Arkansas/Oklahoma Airports Development Office, ASW-630, 2601 Meacham Boulevard, Fort Worth, Texas 76137.

In addition, one copy of any comments submitted to the FAA must be mailed or delivered to The Honorable Gary Crocker, Mayor of Pocahontas, at the following address: City of Pocahontas, 410 North Marr, Pocahontas, AR 72455.

FOR FURTHER INFORMATION CONTACT: Mr. Paul Burns, Federal Aviation Administration, Airports Development Office, ASW-630, 2601 Meacham Boulevard, Fort Worth, Texas 76137.

The request to release property may be reviewed in person at this same location.

SUPPLEMENTARY INFORMATION: The FAA invites public comment on the request to release property at the Pocahontas Municipal Airport.

On June 18, 2009, the FAA determined that the request to release property at Pocahontas Municipal Airport submitted by the City of Pocahontas met the procedural requirements of the Federal Aviation Regulations, Part 155. The FAA may approve the request, in whole or in part, no later than July 30, 2009.

The following is a brief overview of the request:

The City of Pocahontas requests the release of 5.1 acres of airport property. The release of property will allow Pinnacle Frames, a local manufacturing facility, to improve its existing facilities which are on lands previously released by the Federal Aviation Administration. The release will also allow the airport to receive, in exchange for the 5.1-acres tract, a cash payment in the amount of $25,000.00, which the City will use for a 2010 capital improvement project to construct 1-hangars at Pocahontas Municipal Airport.

Any person may inspect the request in person at the FAA office listed above under FOR FURTHER INFORMATION CONTACT.

In addition, any person may, upon request, inspect the application, notice and other documents germane to the application in person at the Pocahontas Municipal Airport.

Issued in Fort Worth, Texas on June 19, 2009.
Lacey D. Spriggs,
Acting Manager, Airports Division.

[FR Doc. E9-15130 Filed 6-25-09; 8:45 am]

BILLING CODE M